DEPARTMENT OF ENERGY

Federal Energy Regulatory Commission

Notice of Commission Staff Attendance

The Federal Energy Regulatory Commission hereby gives notice that members of the Commission's staff may attend the following meeting related to the transmission planning activities of ISO New England Inc., New York Independent System Operator, Inc., and PJM Interconnection, L.L.C.:

Inter-Regional Planning Stakeholder Advisory Committee

June 22, 2012, 9 a.m. to 12 p.m., Local Time

The above-referenced meeting will be held via teleconference.

The above-referenced meeting is open to stakeholders.

Further information may be found at www.pjm.com.

The discussions at the meetings described above may address matters at issue in the following proceedings:

Docket No. ER08-1281, New York Independent System Operator, Inc.

Docket Nos. ER10-787, EL10-50, and EL10-57, ISO New England Inc. and the New England Power Pool Participants Committee

Docket No. ER11-2216, ISO New England Inc. and the Participating Transmission Owners Administrative Committee

Docket No. ER11-2580, ISO New England Inc.

Docket No. ER11-3953, ISO New England Inc. and the New England Power Pool Participants Committee

Docket No. ER11-4336, ISO New England Inc.

Docket No. ER12-729, ISO New England Inc. and the New England Power Pool Participants Committee

Docket No. ER12-757, ISO New England Inc.

Docket No. ER12-953, ISO New England Inc. and the New England Power Pool Participants Committee

Docket No. ER12-991, ISO New England Inc.

Docket No. EL05-121, PJM Interconnection, L.L.C.

Docket No. ER06-456, ER06-954, ER06-1271, ER07-424, ER06-880, EL07-57, ER07-1186, ER08-229, ER08-1065, ER09-497, and ER10-268, PJM Interconnection, L.L.C.

Docket No. ER10-253 and EL10-14, Primary Power, L.L.C.

Docket No. EL10-52, Central Transmission, LLC v. PJM Interconnection, L.L.C.

Docket No. ER11-4070, RITELine Indiana et al.

Docket No. ER11-2875 and EL11-20, PJM Interconnection, L.L.C.

Docket No. ER09-1256, Potomac-Appalachian Transmission Highline, L.L.C.

Docket No. ER09-1589, FirstEnergy Service Company

Docket No. EL11-56, FirstEnergy Service Company

Docket No. ER11-1844, Midwest Independent Transmission System Operator, Inc.

Docket No. ER12-718, New York Independent System Operator, Inc.

Docket No. ER12-1177, PJM Interconnection, L.L.C.

Docket No. ER12-1178, PJM Interconnection, L.L.C.

Docket No. ER12-1693, PJM Interconnection, L.L.C.

For more information, contact James Eason, Office of Energy Market Regulation, Federal Energy Regulatory Commission at (202) 502-8622 or James.Eason@ferc.gov.

Dated: June 20, 2012.
Kimberly D. Bose,
Secretary.

[FR Doc. 2012-15520 Filed 6-25-12; 8:45 am]

BILLING CODE 6717-01-P